ENVIRONMENTAL PROTECTION AGENCY

[FRL OP-OFA-014]

Environmental Impact Statements; Notice of Availability

Responsible Agency: Office of Federal Activities, General Information 202-564-5632 or https://www.epa.gov/nepa.

Weekly receipt of Environmental Impact Statements (EIS)

Filed April 18, 2022 10 a.m. EST Through April 25, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220057, Final, FHWA, MD, Chesapeake Bay Crossing Study Tier 1 NEPA, Contact: Jeanette Mar 410-779-7152. Pursuant to 23 U.S.C. 139(n)(2), FHWA has issued a single FEIS and ROD. Therefore, the 30-day wait/review period under NEPA does not apply to this action.

EIS No. 20220058, Draft Supplement, FHWA, OR, Earthquake Ready Burnside Bridge, Comment Period Ends: 06/13/2022, Contact: Emily Cline 503-316-2547.

EIS No. 20220059, Draft, TVA, TN, Cumberland Fossil Plant Retirement, Comment Period Ends: 06/13/2022, Contact: Ashley Pilakowski 865-632-2256.

EIS No. 20220060, Draft, BLM, NM, SunZia Southwest Transmission Project, Comment Period Ends: 07/28/2022, Contact: Adrian Garcia 505-954-2199.

Dated: April 26, 2022.
Cindy S. Barger,
Director, NEPA Compliance Division, Office of Federal Activities.

[FR Doc. 2022-09222 Filed 4-28-22; 8:45 am]

BILLING CODE 6560-50-P